DEPARTMENT OF AGRICULTURE

Food Safety and Inspection Service

[Docket No. FSIS-2014-0032]

Establishment-Specific Data Release Strategic Plan

AGENCY: Food Safety and Inspection Service, USDA.

ACTION: Notice and request for comments.

SUMMARY: FSIS is announcing the availability of the Agency's draft Establishment-Specific Data Release Strategic Plan (the draft Plan) for sharing data on federally inspected meat and poultry establishments with the public. FSIS developed the Plan in response to memoranda released by President Obama and the Office of Management and Budget (OMB) that called for increased data sharing; an Executive Order for agencies to develop plans for making information available to the public; National Advisory Committee on Meat and Poultry Inspection (NACMPI) recommendations; and a National Research Council (NRC) review. FSIS is seeking public comments on the draft Plan.

DATES: Submit comments on or before March 16, 2015.

ADDRESSES: FSIS invites interested persons to submit comments on the draft data release Plan. Comments may be submitted by one of the following methods:

Federal eRulemaking Portal: This Web site provides the ability to type short comments directly into the comment field on this Web page or attach a file for lengthier comments. Go to http://www.regulations.gov/. Follow the online instructions at that site for submitting comments.

Mail, CD-ROMs: Send to Docket Clerk, U.S. Department of Agriculture, Food Safety and Inspection Service, Patriots Plaza 3, 1400 Independence Avenue SW., Mailstop 3782, Room 8-163B, Washington, DC 20250-3700.

Hand- or courier-delivered submittals: Deliver to Patriots Plaza 3, 355 E Street SW., Room 8-163A, Washington, DC 20250-3700.

Instructions: All items submitted by mail or electronic mail must include the Agency name and docket number FSIS-2014-0032. Comments received in response to this docket will be made available for public inspection and posted without change, including any personal information, to http://www.regulations.gov.

Docket: For access to background documents or to comments received, go to the FSIS Docket Room at Patriots Plaza 3, 355 E Street SW., Room 164-A, Washington, DC 20250-3700 between 8:00 a.m. and 4:30 p.m., Monday through Friday.

FOR FURTHER INFORMATION CONTACT: Dr. Daniel L. Engeljohn, Assistant Administrator, Office of Policy and Program Development; Telephone: (202) 205-0495.

SUPPLEMENTARY INFORMATION:

Background

The Food Safety and Inspection Service (FSIS) administers a regulatory program under the Federal Meat Inspection Act (FMIA) (21 U.S.C. 601 et seq.), the Poultry Products Inspection Act (PPIA) (21 U.S.C. 451 et seq.), and the Egg Products Inspection Act (EPIA) (21 U.S.C. 1031 et seq.) to protect the health and welfare of consumers. The Agency is responsible for ensuring that the nation's commercial supply of meat, poultry, and egg products is safe, wholesome, not adulterated, and correctly labeled and packaged.

FSIS inspects these products at official slaughtering and processing establishments, verifying that the establishments meet regulatory requirements and enforcing those requirements as necessary.

Additionally, FSIS employees (inspectors, veterinarians, laboratorians, and Enforcement, Investigations, and Analysis Officers (EIAOs)) perform a variety of activities, including conducting inspections, ensuring compliance with existing regulations, and collecting and testing microbiological and chemical residue samples to verify whether establishments maintain Hazard Analysis and Critical Control Point (HACCP) or other food safety systems that address these hazards. While conducting these activities and performing many other key functions, FSIS collects a large volume of establishment-specific data on pathogens and residues. For example, FSIS collects data on regulated, domestic slaughter and processing establishments and on product imported from foreign countries with inspection systems equivalent to that of the United States.

FSIS produces reports using this data for internal use, as well as reports and data shared publicly through the Agency's Web site ¹ and other public communication venues. FSIS aggregates most of the data it shares with the public or provides the data in summary format.

¹ For more information, please visit: http://www.fsis.usda.gov.

On January 21, 2009, President Obama issued a “Memorandum on Transparency and Open Government”,² intended to promote increased public trust in the Government through “a system of transparency, public participation, and collaboration.” A month later, OMB sent a memorandum to Executive Departments and agencies on “The President's Memorandum on Transparency and Open Government—Interagency Collaboration,” ³ which enclosed a copy of the Presidential memorandum and announced plans for developing a directive on transparency, participation, and collaboration across Government and with groups outside the Government. On December 8, 2009, OMB issued the Open Government Directive, requiring the Departments and agencies to take various steps toward creating a more open Government, such as by publishing information online in an open format that is available to the public without restrictions.⁴

² “Transparency and Open Government: Memorandum for the Heads of Executive Departments and Agencies”. (74 FR 4685; Jan. 26, 2009), pp. 4685-4686. Available at: http://www.whitehouse.gov/the_press_office/TransparencyandOpenGovernment.

³ “Memorandum for the Heads of Executive Departments and Agencies: President's Memorandum on Transparency and Open Government—Interagency Collaboration.” Memorandum Number: M-09-12. 24 February, 2009. Available at: http://www.whitehouse.gov/sites/default/files/omb/assets/memoranda_fy2009/m09-12.pdf.

⁴ “Memorandum for the Heads of Executive Departments and Agencies: President's Memorandum on Transparency and Open Government—Interagency Collaboration.” Memorandum Number: M-10-06. 8 December, 2009. Available at: http://www.whitehouse.gov/open/documents/open-government-directive.

In 2010, in response to the memoranda and directive discussed in the preceding paragraph, and a desire to more publicly share data collected by the Agency, FSIS began exploring how best to share establishment-specific data with the public. As a first step, FSIS consulted NACMPI, which recommended that FSIS obtain guidance from the National Academies or other entities with recognized expertise in data management and analysis to improve data accessibility and usefulness for internal and external stakeholders.⁵

⁵ “The National Advisory Committee on Meat and Poultry Inspection Data Collection, Analysis, and Transparency `Subcommittee.” 2010. Available at: http://www.fsis.usda.gov/wps/wcm/connect/caa395aa-5f88-467e-b20f-a010e95cb4db/Data_Subcommittee_Final_Report.pdf?MOD=AJPERES.

Acting on the NACMPI recommendation, FSIS asked the National Academies' NRC in late 2010 to study the potential food safety benefits and other consequences of making establishment-specific data publicly available on the Internet.⁶ The NRC convened a committee that in 2011 issued a report laying out an approach for FSIS's release of establishment-specific data that considered the benefits and costs of data sharing. In exploring how other Government agencies share data with the public, the NRC selected for review a number of regulatory and non-regulatory agencies that share data on their activities. Information about data sharing within and from these agencies is available in the NRC report.

⁶ National Research Council, Committee on a Study of Food Safety and Other Consequences of Publishing Establishment-Specific Data. The Potential Consequences of Public Release of Food Safety and Inspection Service Establishment-Specific Data. 2011. Available at: http://www.nap.edu/catalog.php?record_id=13304.

The NRC Committee concluded, on the basis of its review of the design and implementation of data release efforts by other regulatory and non-regulatory agencies, that FSIS could “benefit from consultation with these agencies and could build on their effective practices when designing a public data release program.” The NRC Committee found that, on the whole, there were “strong arguments supporting public release of establishment-specific FSIS data, especially data that are subject to release under [the Freedom of Information Act].” To maximize its effectiveness and minimize its potential adverse unintended consequences, FSIS's “data disclosure should be guided by a carefully designed information-disclosure strategy.” ⁷ The NRC Committee specifically recommended that FSIS develop a strategic plan to guide it in the release of establishment-specific data.

⁷ National Research Council, Committee on a Study of Food Safety and Other Consequences of Publishing Establishment-Specific Data. “The Potential Consequences of Public Release of Food Safety and Inspection Service Establishment-Specific Data.” 2011. Available at: http://www.nap.edu/catalog.php?record_id=13304.

FSIS also conducted its own in-depth review of Federal data sharing procedures and resources. This review focused on both regulatory and non-regulatory agencies and identified model Web sites, data-sharing portals, and other public data-sharing resources. As a consequence of its review and the recommendations that it received, the Agency developed the draft Establishment-Specific Data Release Strategic Plan (the draft Plan). The draft Plan is accessible at: http://www.fsis.usda.gov/wps/wcm/connect/98c33278-53dd-4228-a695-54f429cf4413/Establishment-Specific-Data-Release-Plan.pdf?MOD=AJPERES.

In January 2014, as a follow-up to its 2010 meeting, FSIS shared the draft Plan with NACMPI to gather input and seek feedback before the public release and implementation of the Plan. NACMPI recommended that FSIS prioritize the release of establishment-level datasets that FSIS already publishes in a aggregated or summary form and datasets related to sampling programs for pathogens that are considered adulterants. NACMPI also recommended that FSIS consider releasing additional datasets and adding this information to the Plan. The Agency has incorporated this input in the version of the draft Plan that the present document announces.

Meanwhile, in the effort to identify and plan for the release of additional data to the public, FSIS and other regulatory agencies have been encouraged by President Obama's ”Memorandum on Regulatory Compliance” ⁸ and the Executive Order, “Making Open and Machine Readable the New Default for Government Information,” ⁹ to develop plans for making information on regulatory compliance and enforcement activities available in machine-readable format and accessible, downloadable, and searchable online. Under the draft Plan, FSIS will use Data.gov as a repository and point-of-access for released data. Data.gov is a Federal, government-sponsored Web site designed to “increase the ability of the public to easily find, download, and use datasets that are generated and held by the Federal Government.”¹⁰ FSIS will provide a link to Data.gov on its Web site.

⁸ “Memorandum on Regulatory Compliance.” 76 Federal Register 14 (21 January 2011), pp. 3825-3826.

⁹ Making Open and Machine Readable the New Default for Government Information.” Executive Order 13642. 78 Federal Register 93 (14 May 2013), pp. 28111-28113.

¹⁰ About Data.gov.” Data.gov. Available at: http://www.data.gov/about.

The draft Plan covers dataset selection criteria, data release procedures, a preliminary list of Agency datasets for public release, and performance measures for evaluating the effectiveness of data release. It also provides details on the specific sampling programs from which the establishment-specific data are drawn.

The draft Plan includes a preliminary list of Agency datasets for public release. The data to be released first will be demographic datasets for all regulated establishments (expanding the data currently available through the FSIS Meat, Poultry, and Egg Inspection Directory). “Demographics” here refers to identifying characteristics of meat and poultry establishments that are subject to FSIS inspection.¹¹ These include, but are not limited to, the following variables: Establishments' “HACCP size”—large, small, or very small; products the establishments' produce; and their USDA official establishment number.

¹¹ The preliminary demographics dataset will not include information on egg products establishments. FSIS will release this information at a later date.

At a later date, FSIS will release Agency datasets on testing data on Shiga Toxin-producing Escherichia coli (STEC) in raw, non-intact beef products and on Listeria monocytogenes and Salmonella in RTE products. Additional Agency datasets FSIS intends to release include, but are not limited to, testing and serotype data on Salmonella and Campylobacter in young chickens and young turkeys; Salmonella and Campylobacter in comminuted poultry; Salmonella in raw ground beef; routine chemical residue testing data in meat and poultry products; advanced meat recovery (AMR) testing data. These preliminary Agency datasets will not all be released at the same time and before releasing the final datasets. FSIS will publish a Constituent Update with a link to a sample dataset for stakeholder review.

Besides the preliminary datasets that the Agency will be releasing, as stated in the draft Plan, FSIS is considering additional data sources for future release. These include: Inspection task data associated with verification of compliance with each regulation; humane handling task data; and import sampling task data relating to STEC, Salmonella, and residue testing.

The Agency is sharing the draft Plan with the larger public to benefit from any comments and suggestions that the public may provide. The Agency will consider all comments submitted before releasing and posting any datasets. The Agency will revise the draft Plan as necessary.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410.

Fax

(202) 690-7442.

Email

program.intake@usda.gov.

Persons with disabilities who require alternative means for communication (Braille, large print, audiotape, etc.) should contact USDA's TARGET Center at (202)720-2600 (voice and TDD).

Additional Public Notification

FSIS will announce this notice online through the FSIS Web page located at http://www.fsis.usda.gov/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/subscribe. Options range from recalls to export information to regulations, directives, and notices. Customers can add or delete subscriptions themselves, and have the option to password protect their accounts.

Done at Washington, DC, on: January 9, 2015.
Alfred V. Almanza,
Acting Administrator.

[FR Doc. 2015-00434 Filed 1-14-15; 8:45 am]

BILLING CODE 3410-DM-P